DEPARTMENT OF ENERGY

Federal Energy Regulatory Commission

Combined Notice of Filings #1

Take notice that the Commission received the following exempt wholesale generator filings:

Docket Numbers: EG14-38-000.

Applicants: Duke Energy Miami Fort, LLC.

Description: Corrected Version of Duke Energy Miami Fort, LLC Notice of Self-Certification of EWG Status.

Filed Date: 4/15/14.

Accession Number: 20140415-5083.

Comments Due: 5 p.m. ET 5/6/14.

Docket Numbers: EG14-39-000.

Applicants: Duke Energy Stuart, LLC.

Description: Corrected Version of Duke Energy Stuart, LLC Notice of Self-Certification of EWG Status.

Filed Date: 4/15/14.

Accession Number: 20140415-5086.

Comments Due: 5 p.m. ET 5/6/14.

Docket Numbers: EG14-40-000.

Applicants: Duke Energy Conesville, LLC.

Description: Corrected Version of Duke Energy Conesville, LLC Notice of Self-Certification of EWG Status.

Filed Date: 4/15/14.

Accession Number: 20140415-5087.

Comments Due: 5 p.m. ET 5/6/14.

Docket Numbers: EG14-41-000.

Applicants: Duke Energy Dicks Creek, LLC.

Description: Corrected Version of Duke Energy Dicks Creek, LLC Notice of Self-Certification of EWG Status.

Filed Date: 4/15/14.

Accession Number: 20140415-5088.

Comments Due: 5 p.m. ET 5/6/14.

Docket Numbers: EG14-42-000.

Applicants: Duke Energy Zimmer, LLC.

Description: Corrected Version of Duke Energy Zimmer, LLC Notice of Self-Certification of EWG Status.

Filed Date: 4/15/14.

Accession Number: 20140415-5089.

Comments Due: 5 p.m. ET 5/6/14.

Docket Numbers: EG14-43-000.

Applicants: Duke Energy Killen, LLC.

Description: Corrected Version of Duke Energy Killen, LLC Notice of Self-Certification of EWG Status.

Filed Date: 4/15/14.

Accession Number: 20140415-5090.

Comments Due: 5 p.m. ET 5/6/14.

Take notice that the Commission received the following electric rate filings:

Docket Numbers: ER13-2105-002.

Applicants: Exelon Generation Company, LLC.

Description: ExGen NOSA Compliance Filing to be effective 4/1/2014.

Filed Date: 4/14/14.

Accession Number: 20140414-5209.

Comments Due: 5 p.m. ET 5/5/14.

Docket Numbers: ER14-781-001.

Applicants: Southwest Power Pool, Inc.

Description: Generation Interconnection Process Improvement Deficiency Response to be effective 3/1/2014.

Filed Date: 4/14/14.

Accession Number: 20140414-5231.

Comments Due: 5 p.m. ET 5/5/14.

Docket Numbers: ER14-1718-000.

Applicants: PJM Interconnection, L.L.C.

Description: Original Service Agreement No. 3800—Queue Position Y2-113 to be effective 3/13/2014.

Filed Date: 4/14/14.

Accession Number: 20140414-5222.

Comments Due: 5 p.m. ET 5/5/14.

Docket Numbers: ER14-1719-000.

Applicants: Midcontinent Independent System Operator, Inc.

Description: Notice of Termination of Generator Interconnection Agreement designated as Project No. H061 of Midcontinent Independent System Operator, Inc.

Filed Date: 4/14/14.

Accession Number: 20140414-5277.

Comments Due: 5 p.m. ET 5/5/14.

Docket Numbers: ER14-1720-000.

Applicants: Public Service Company of Colorado.

Description: 2014-4-15_Remove Att S-Rsrv Shr Agrmt to be effective 3/1/2014.

Filed Date: 4/15/14.

Accession Number: 20140415-5029.

Comments Due: 5 p.m. ET 5/6/14.

Docket Numbers: ER14-1721-000.

Applicants: Inland Empire Energy Center, LLC.

Description: Compliance Filing to Add Omitted Language to be effective 4/16/2014.

Filed Date: 4/15/14.

Accession Number: 20140415-5038.

Comments Due: 5 p.m. ET 5/6/14.

Docket Numbers: ER14-1722-000.

Applicants: Midcontinent Independent System Operator, Inc.

Description: 2014-04-15_Quarterly Clean-Up Filing to be effective 4/16/2014.

Filed Date: 4/15/14.

Accession Number: 20140415-5106.

Comments Due: 5 p.m. ET 5/6/14.

Docket Numbers: ER14-1723-000.

Applicants: Midcontinent Independent System Operator, Inc.

Description: Midcontinent Independent System Operator, Inc. submits a Notice of Termination of the Large Generator Interconnection Agreement designated as Project No. G297.

Filed Date: 4/15/14.

Accession Number: 20140415-5108.

Comments Due: 5 p.m. ET 5/6/14.

Take notice that the Commission received the following electric securities filings:

Docket Numbers: ES14-33-000.

Applicants: Orange & Rockland Utilities, Inc.

Description: Application of Orange & Rockland Utilities, Inc. under New Docket for an order pursuant to Section 204 of the Federal Power Act authorizing the issue and sale of short-term debt.

Filed Date: 4/14/14.

Accession Number: 20140414-5276.

Comments Due: 5 p.m. ET 5/5/14.

Take notice that the Commission received the following open access transmission tariff filings:

Docket Numbers: OA08-14-008.

Applicants: Midcontinent Independent System Operator, Inc.

Description: Annual Compliance Report as Required by Order No. 890-A of Midcontinent Independent System Operator, Inc.

Filed Date: 4/15/14.

Accession Number: 20140415-5070.

Comments Due: 5 p.m. ET 5/6/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2014.
Nathaniel J. Davis, Sr.,
Deputy Secretary.

[FR Doc. 2014-09165 Filed 4-22-14; 8:45 am]

BILLING CODE 6717-01-P